DEPARTMENT OF ENERGY

Federal Energy Regulatory Commission

[Project No. 15055-001]

Northern States Power Company; Notice of Environmental Site Review

On September 27, 2023, at 3:00 p.m. (Central Daylight Time), Commission staff and Northern States Power Company (Northern States Power), the applicant for the Gile Flowage Storage Reservoir Project No. 15055 (project), will conduct an environmental site review of the project. All interested individuals, agencies, Indian Tribes, non-governmental organizations, and other stakeholders are invited to attend.

The site review will include the project dam, spillway, impoundment, and recreational facilities associated with the project, and will commence at the adjacent Gile Park. Please note that all participants are responsible for their own transportation to/from the project and during the site review tour. If you are interested in attending, or have questions regarding the site review, please contact Matthew Miller of Northern States Power via email at matthew.j.miller@xcelenergy.com, or telephone at (715) 737-1353 on or before Friday, September 22, 2023.

Participants will meet at Gile Park located at 14 Park Street, Gile, Wisconsin 54525. Participants should arrive early for coordination purposes and to begin the tour promptly at 3:00 p.m. Additionally, participants must wear sturdy, closed-toe shoes, or boots.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 25, 2023.
Kimberly D. Bose,
Secretary.

[FR Doc. 2023-18870 Filed 8-30-23; 8:45 am]

BILLING CODE 6717-01-P